FEDERAL COMMUNICATIONS COMMISSION

[OMB 3060-0506 and OMB 3060-0938; FR ID 101225]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it can further reduce the information collection burden for small business concerns with fewer than 25 employees.

DATES: Written comments and recommendations for the proposed information collection should be submitted on or before September 19, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0506.

Title: FCC Form 2100, Schedule 302-FM—FM Station License Application.

Form Number: FCC Form 2100, Schedule 302-FM.

Type of Review: Revision of a currently approved collection.

Respondents: Business or other for-profit entities; Not-for-profit institutions.

Number of Respondents and Responses: 925 respondents; 925 responses.

Estimated Time per Response: 1-2 hours.

Frequency of Response: On occasion reporting requirement.

Total Annual Burden: 3,135 hours.

Total Annual Costs: $801,500.

Obligation to Respond: Required to obtain or retain benefits. The statutory authority for this collection of information is contained in Sections 154(i), 303 and 308 of the Communications Act of 1934, as

Needs and Uses: The Commission adopted the FM Broadcast Directional Antenna Performance Verification Order, FCC 22-38, adopted May 19, 2022, and released on May 19, 2022, where the Commission revised its broadcast radio rules and procedures to allow for FM antenna directional pattern verification by computer modeling. This represents an update from the previous requirement that an FM or LPFM directional antenna's performance be verified by the “measured relative field pattern” and brings our rules for those services into regulatory conformity with our rules governing AM and DTV directional antennas. The Commission expects that this change in how the antenna manufacturer may validate its FM directional antenna studies would provide an FM license applicant with greater flexibility in antenna siting and reduce the overall costs of designing and building an FM directional antenna, and station construction.

Specifically, pertaining to this Information Collection and full-service FM stations, the Commission is revising the relevant rules, 47 CFR 73.316 and 47 CFR 73.1690, and corresponding instructions, as follows:

Gives an FM license applicant that employs a directional antenna the option of submitting computer-generated proofs of the FM directional antenna pattern prepared by the antenna's manufacturer, in lieu of measured pattern plots and tabulations derived from physical full-size or scale model antenna mockups.

In Section 73.316, specifies the information required in a license application filed for a station using an FM directional antenna, which opts to use computer modeling pattern verification. For example, the license application must include a statement from the engineer responsible for designing the antenna, performing the modeling, and preparing the antenna manufacturer's instructions for installation of the antenna, that identifies and describes the software used to create the computer model, the software tool(s) used in the modeling and the procedures applied in using the software. The statement should describe all radiating structures included in the model. It must also include a certification that the software executed normally without generating error messages or warnings.

Requires that, the first time the directional pattern of a particular model of antenna is verified using computer results, the broadcast station must submit to the Commission both the results of the computer modelling and the measurements of either a full-size or scale model of the antenna or elements thereof, demonstrating a reasonable correlation between the measurements achieved and the computer model results. Once a particular antenna model or series of elements has been verified, subsequent applicants using the same antenna model number or elements and the same modeling software may cross-reference the original submission by providing the application file number.

The revisions to the relevant rules and corresponding Schedule 302-FM instructions listed above may potentially affect the substance, burden hours, and costs of completing the Schedule 302-FM. Therefore, this submission is being made to OMB for approval of the revised Information Collection requirements.

OMB Control Number: 3060-0938.

Title: Form 2100, Schedule 319—Low Power FM Station License Application.

Form Number: FCC Form 2100, Schedule 319.

Type of Review: Revision of a currently approved collection.

Respondents: Not-for-profit institutions, State, local or Tribal Government.

Number of Respondents and Responses: 200 respondents and 200 responses.

Estimated Time per Response: 1 hour.

Frequency of Response: On occasion reporting requirement.

Total Annual Burden: 200 hours.

Total Annual Cost: $27,500.

Obligation to Respond: Required to obtain or retain benefits. The statutory authority for this collection of information is contained in Sections 154(i), 303 and 308 of the Communications Act of 1934, as amended.

Needs and Uses: The Commission adopted the FM Broadcast Directional Antenna Performance Verification Order, FCC 22-38, adopted May 19, 2022, and released on May 19, 2022, where the Commission revised its broadcast radio rules and procedures to allow for LPFM antenna directional pattern verification by computer modeling. This represents an update from the previous requirement that an FM or LPFM directional antenna's performance be verified by the “measured relative field pattern” and brings our rules for those services into regulatory conformity with our rules governing AM and DTV directional antennas. The Commission expects that this change in how the antenna manufacturer may validate its LPFM directional antenna studies would provide an LPFM license applicant with greater flexibility in antenna siting and reduce the overall costs of designing and building an LPFM directional antenna, and station construction.

Specifically, pertaining to this Information Collection and LPFM stations, the Commission is revising the relevant rules, 47 CFR 73.316 and 47 CFR 73.1690, and corresponding instructions, as follows:

Gives an LPFM license applicant that employs a directional antenna the option of submitting computer-generated proofs of the LPFM directional antenna pattern prepared by the antenna's manufacturer, in lieu of measured pattern plots and tabulations derived from physical full-size or scale model antenna mockups.

In Section 73.316, specifies the information required in a license application filed for a station using an LPFM directional antenna, which opts to use computer modeling pattern verification. For example, the license application must include a statement from the engineer responsible for designing the antenna, performing the modeling, and preparing the antenna manufacturer's instructions for installation of the antenna, that identifies and describes the software used to create the computer model, the software tool(s) used in the modeling and the procedures applied in using the software. The statement should describe all radiating structures included in the model. It must also include a certification that the software executed normally without generating error messages or warnings.

Requires that, the first time the directional pattern of a particular model of antenna is verified using computer results, the broadcast station must submit to the Commission both the results of the computer modelling and the measurements of either a full-size or scale model of the antenna or elements thereof, demonstrating a reasonable correlation between the measurements achieved and the computer model results. Once a particular antenna model or series of elements has been verified, subsequent applicants using the same antenna model number or elements and the same modeling software may cross-reference the original submission by providing the application file number.

The revisions to the relevant rules and corresponding Form 2100, Schedule 319 (LPFM License Application) instructions listed above may potentially affect the substance, hours, and costs of completing the Schedule 319 (LPFM License Application). Therefore, this submission is being made to OMB for approval of the revised Information Collection requirements.

Federal Communications Commission.
Marlene Dortch,
Secretary, Office of the Secretary.

[FR Doc. 2022-17930 Filed 8-18-22; 8:45 am]

BILLING CODE 6712-01-P